OFFICE OF PERSONNEL MANAGEMENT

5 CFR Part 532

RIN 3206-AJ78

Prevailing Rate Systems; Redefinition of the North Dakota and Duluth, MN, Appropriated Fund Wage Areas

AGENCY: Office of Personnel Management.

ACTION: Proposed rule with request for comments.

SUMMARY: The Office of Personnel Management is issuing a proposed rule that would redefine the North Dakota and Duluth, MN, Federal Wage System (FWS) appropriated fund wage areas. The proposed rule would redefine Clearwater and Mahnomen Counties and the White Earth Indian Reservation portion of Becker County from the North Dakota FWS wage area to the Duluth FWS wage area. These changes would assign all blue-collar Federal employees working in Indian Health Service facilities in northern Minnesota to one FWS wage schedule.

DATES: We must receive comments on or before September 22, 2003.

ADDRESSES: Send or deliver comments to Donald J. Winstead, Deputy Associate Director for Pay and Performance Policy, Strategic Human Resources Policy Division, Office of Personnel Management, Room 7H31, 1900 E Street NW., Washington, DC 20415-8200, e-mail payleave@opm.gov, or FAX: (202) 606-4264.

FOR FURTHER INFORMATION CONTACT: Mark A. Allen at (202) 606-2848, e-mail maallen@opm.gov, or FAX: (202) 606-4264.

SUPPLEMENTARY INFORMATION: The Office of Personnel Management (OPM) is proposing to redefine the North Dakota and Duluth, MN, Federal Wage System (FWS) appropriated fund wage areas. This proposed rule would redefine Clearwater and Mahnomen Counties and the White Earth Indian Reservation portion of Becker County from the North Dakota FWS wage area to the Duluth FWS wage area. We are taking this action because FWS employees who work for closely related Bemidji Area Indian Health Service (IHS) facilities in northern Minnesota are currently in two separate FWS wage areas. The Department of Health and Human Services has requested that OPM redefine the North Dakota and Duluth wage areas so that blue-collar employees of its IHS facilities in northern Minnesota would be covered by one wage schedule.

OPM considers the following regulatory criteria under 5 CFR 532.211 when defining FWS wage area boundaries:

(i) Distance, transportation facilities, and geographic features;

(ii) Commuting patterns; and

(iii) Similarities in overall population, employment, and the kinds and sizes of private industrial establishments.

Based on our analysis of the regulatory criteria for defining appropriated fund FWS wage areas, we find that the criteria for Clearwater, Mahnomen, and Becker Counties do not strongly favor defining the counties to one FWS wage area more than another. However, the IHS medical centers in northern Minnesota are in an unusual situation in that they are in a rural area that is economically and socially integrated by the local reservation system and not strongly integrated with the labor markets in either the North Dakota or Duluth FWS survey areas. It is desirable to have IHS employees aligned under one wage schedule because the area and population serviced by the medical centers serves as a unique labor market. However, there is insufficient private sector industry and FWS employment in northern Minnesota to meet OPM's regulatory requirements for establishing a separate FWS wage area for the IHS employees there. Because it is not feasible to establish a separate FWS wage area for IHS employees in northern Minnesota, the FWS employment locations must be defined to the area of application of an existing FWS wage area.

Analysis of OPM's regulatory criteria for defining FWS wage areas shows that the majority of IHS employment locations under the Bemidji Area in northern Minnesota are more closely aligned with the Duluth wage area than the North Dakota wage area. The White Earth, Red Lake, and Cass Lake Indian Health Centers are part of the Bemidji Area but their associated reservations are not entirely within the Duluth wage area. The White Earth Indian Reservation occupies the northern portion of Becker County and most of Mahnomen County, while the Red Lake and Cass Lake Indian Reservations occupy the northern portions of Clearwater County. We therefore propose that Clearwater and Mahnomen Counties be redefined from the North Dakota wage area to the Duluth wage area. We also propose that the White Earth Indian Reservation portion of Becker County be redefined from the North Dakota wage area to the Duluth wage area.

There are 11 IHS employees in Becker County, and none in Clearwater or Mahnomen Counties. There are several FWS employees stationed in the part of Becker County that we do not propose to define to the Duluth wage area. We believe the mixed nature of the regulatory analysis findings for Becker County indicates that the non-IHS employment locations in Becker County should remain appropriately defined to the North Dakota wage area. The affected IHS employees in Becker County would be placed on the wage schedule for the Duluth wage area after we publish final regulations in the Federal Register.

The Federal Prevailing Rate Advisory Committee (FPRAC), the national labor-management committee that advises OPM on FWS pay matters, reviewed and recommended these changes by consensus. Based on its review of the regulatory criteria for defining FWS wage areas, FPRAC recommended no other changes in the geographic definitions of the North Dakota and Duluth wage areas.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

Kay Coles James,
Director, U.S. Office of Personnel Management.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of Minnesota is amended by revising the listing for Duluth; and for the State of North Dakota, to read as follows:

Appendix C to Subpart B of Part 532—Appropriated Fund Wage and Survey Areas

* * * * *
MINNESOTA
Duluth
Survey Area
Minnesota:
Carlton
St. Louis
Wisconsin:
Douglas
Area of Application. Survey area plus:
Minnesota:
Aitkin
Becker (Including the White Earth Indian Reservation portion only)
Beltrami
Cass
Clearwater
Cook
Crow Wing
Hubbard
Itasca
Koochiching
Lake
Lake of the Woods
Mahnomen
Pine
Wisconsin:
Ashland
Bayfield
Burnett
Iron
Sawyer
Washburn
* * * * *
NORTH DAKOTA
Survey Area
North Dakota:
Burleigh
Cass
Grand Forks
McLean
Mercer
Morton
Oliver
Traill
Ward
Minnesota:
Clay
Polk
Area of Application. Survey area plus:
North Dakota:
Adams
Barnes
Benson
Billings
Bottineau
Bowman
Burke
Cavalier
Dickey
Divide
Dunn
Eddy
Emmons
Foster
Golden Valley
Grant
Griggs
Hettinger
Kidder
La Moure
Logan
McHenry
McIntosh
McKenzie
Mountrail
Nelson
Pembina
Pierce
Ramsey
Ransom
Renville
Richland
Rolette
Sargent
Sheridan
Sioux
Slope
Stark
Steele
Stutsman
Towner
Walsh
Wells
Williams
Minnesota:
Becker (Excluding the White Earth Indian Reservation portion)
Kittson
Marshall
Norman
Otter Tail
Pennington
Red Lake
Roseau
Wilkin
* * * * *

[FR Doc. 03-21415 Filed 8-21-03; 8:45 am]

BILLING CODE 6325-39-P